DEPARTMENT OF THE INTERIOR

National Park Service

[NPS-WASO-NAGPRA-14502; PPWOCRADN0-PCU00RP14.R50000]

Notice of Inventory Completion: Museum of Anthropology at Washington State University, Pullman, WA

AGENCY: National Park Service, Interior.

ACTION: Notice.

SUMMARY: The Museum of Anthropology at Washington State University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Museum of Anthropology at Washington State University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Museum of Anthropology at Washington State University at the address in this notice by January 27, 2014.

ADDRESSES: Mary Collins, Museum of Anthropology at Washington State University, P.O. Box 644910, Pullman, WA 99164, telephone (509) 335-4314.

SUPPLEMENTARY INFORMATION: Notice is hereby given in accordance with the Native American Graves Protection and Repatriation Act (NAGPRA), 25 U.S.C. 3003, of the completion of an inventory of human remains under the control of the Museum of Anthropology at Washington State University, Pullman, WA. The human remains and associated funerary objects were removed from Grant County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of Anthropology at Washington State University professional staff in consultation with representatives of the Confederated Tribes of the Colville Reservation.

History and Description of the Remains

In 1961, human remains representing, at minimum, one individual were removed from site 45GR120 in Grant County, WA. The burials were excavated from a cairn marked burial in the Lower Grand Coulee/Sun Lakes region. The work was done in conjunction with an archeological survey of the region directed by Richard Daugherty of Washington State University. Human remains and associated funerary items that were removed from adjacent sites 45GR111 and 45GR120 during the same archeological survey were repatriated in 2011 after a Notice of Inventory Completion was published in the Federal Register on May 13, 2011. No known individuals were identified. No associated funerary objects are present.

The manner of internment and the character of the associated funerary objects are distinctive for Native American burials of the late prehistoric through historic period on the Columbia Plateau. The site is within the judicially established aboriginal territory of the Confederated Tribes of the Colville Reservation. Tribal oral tradition and anthropological and historical research indicate the site lies within an area occupied by the Moses Columbia people, who are legally represented by the Confederated Tribes of the Colville Reservation.

Determinations Made by the Museum of Anthropology at Washington State University

Officials of the Museum of Anthropology at Washington State University have determined that:

• Pursuant to 25 U.S.C. 3001(9), the human remains described in this notice represent the physical remains of one individual of Native American ancestry.

• Pursuant to 25 U.S.C. 3001(2), there is a relationship of shared group identity that can be reasonably traced between the Native American human remains and associated funerary objects and the Confederated Tribes of the Colville Reservation.

Additional Requestors and Disposition

Lineal descendants or representatives of any Indian tribe or Native Hawaiian organization not identified in this notice that wish to request transfer of control of these human remains should submit a written request with information in support of the request to Mary Collins, Museum of Anthropology at Washington State University, PO Box 644910, Pullman, WA 99164, telephone (509) 335-4314, by January 27, 2014. After that date, if no additional requestors have come forward, transfer of control of the human remains to the Confederated Tribes of the Colville Reservation may proceed.

The Museum of Anthropology at Washington State University is responsible for notifying the Confederated Tribes of the Colville Reservation that this notice has been published.

Dated: November 15, 2013.
Melanie O'Brien,
Acting Manager, National NAGPRA Program.

[FR Doc. 2013-30677 Filed 12-24-13; 8:45 am]

BILLING CODE 4312-50-P